DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2014 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the spring 2014 agenda. The purpose of the agenda is to provide information to the public on regulations that are currently under review, being proposed, or issued by Commerce. The agenda is intended to facilitate comments and views by interested members of the public.

Commerce's fall 2014 regulatory agenda includes regulatory activities that are expected to be conducted during the period October 1, 2014, through September 30, 2015.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2014 Unified Agenda of Federal Regulatory and Deregulatory Actions pursuant to Executive Order 12866 and the Regulatory Flexibility Act, 5 U.S.C. 601 et seq. Executive Order 12866 requires agencies to publish an agenda of those regulations that are under consideration pursuant to this order. By memorandum of August 25, 2014, the Office of Management and Budget issued guidelines and procedures for the preparation and publication of the fall 2014 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In this edition of Commerce's regulatory agenda, a list of the most important significant regulatory actions and a Statement of Regulatory Priorities are included in the Regulatory Plan, which appears in both the online Unified Agenda and in part II of the issue of the Federal Register that includes the Unified Agenda.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet. In addition, for fall editions of the Agenda, Commerce's entire Regulatory Plan will continue to be printed in the Federal Register.

Within Commerce, the Office of the Secretary and various operating units may issue regulations. These operating units, the National Oceanic and Atmospheric Administration (NOAA), the Bureau of Industry and Security, and the Patent and Trademark Office, issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's fall 2014 regulatory agenda follows.

Kelly R. Welsh,
General Counsel.

National Oceanic and Atmospheric Administration—Prerule Stage
Sequence No. | Title | Regulation Identifier No.
185 | Inner Limit of the Exclusive Economic Zone under the Magnuson-Stevens Fishery Conservation and Management Act | 0648-BC92

National Oceanic and Atmospheric Administration—Proposed Rule Stage
Sequence No. | Title | Regulation Identifier No.
186 | Requirements for Importation of Fish and Fish Product under the U.S. Marine Mammal Protection Act (Reg Plan Seq No. 33) | 0648-AY15
187 | Atlantic Highly Migratory Species; Future of the Atlantic Shark Fishery | 0648-BA17
188 | Amendment 22 to the Fishery Management Plan for the Snapper Grouper Fishery of the South Atlantic Region | 0648-BA53
189 | Fisheries Off West Coast States; West Coast Salmon Fisheries; Amendment 18; Essential Fish Habitat Descriptions for Pacific Salmon | 0648-BC95
190 | Amendment 5b to the Highly Migratory Species Fishery Management Plan | 0648-BD22
191 | Amendment 39 to the Fishery Management Plan for the Reef Fish Resources of the Gulf of Mexico | 0648-BD25
192 | Implementation of a Program for Transshipments by Large Scale Fishing Vessels in the Eastern Pacific Ocean | 0648-BD59
193 | Amendment 45 to the Fishery Management Plan for Bering Sea and Aleutian Islands King and Tanner Crab Freezer Longline Catcher/Processor Pacific Cod Sideboard Removal | 0648-BD61
194 | Red Snapper Allocation—Amendment 28 to the Fishery Management Plan for the Reef Fish Resources of the Gulf of Mexico (Section 610 Review) | 0648-BD68
195 | Amendment 7 to the FMP for the Dolphin Wahoo Fishery of the Atlantic and Amendment 33 to the FMP for the Snapper-Grouper Fishery of the South Atlantic | 0648-BD76
196 | Regulatory Amendment 16 to the Fishery Management Plan for the Snapper-Grouper Fishery of the South Atlantic Region | 0648-BD78
197 | Amendment 20B to the Fishery Management Plan for the Coastal Migratory Pelagic Resources of the Gulf of Mexico and Atlantic Region | 0648-BD86
198 | Modify the Fisheries Financing Program to allow the Financing of New Replacement Fishing Vessel Construction in Limited Access Fisheries | 0648-BE15
199 | Comprehensive Amendment to the U.S. Caribbean Fishery Management Plans: Annual Catch Limit Control Rule | 0648-BE28
200 | Abrir La Sierra Bank, Bajo de Sico, and Tourmaline Bank Consistency Amendment | 0648-BE32
201 | Regulatory Amendment to Change the Definition of Sport Fishing Guide Services for Pacific Halibut in International Pacific Halibut Commission Area 2C and Area 3A | 0648-BE41
202 | Framework Action to Revise Recreational Accountability Measures for Red Snapper | 0648-BE44
203 | Rule for Amendment 16 to the Fishery Management Plan for the Shrimp Fishery of the Gulf of Mexico, U.S. Waters | 0648-BE46
204 | Amendment 40 to the Fishery Management Plan for the Reef Fish Resources of the Gulf of Mexico | 0648-BE47
205 | 2015 Specifications and Management Measures for the Atlantic Mackerel, Squid, and Butterfish Fisheries | 0648-BE49
206 | Designation of Critical Habitat for the North Atlantic Right Whale (Reg Plan Seq No. 34) | 0648-AY54
207 | Revision of Hawaiian Monk Seal Critical Habitat (Reg Plan Seq No. 35) | 0648-BA81
208 | Designate Critical Habitat for the Hawaiian Insular False Killer Whale Distinct Population Segment | 0648-BC45
209 | Designation of Critical Habitat for the Arctic Ringed Seal | 0648-BC56
210 | Revisions to Hawaiian Islands Humpback Whale National Marine Sanctuary Regulations | 0648-BD97
References in boldface appear in The Regulatory Plan in part II of this issue of the Federal Register.

National Oceanic and Atmospheric Administration—Final Rule Stage
Sequence No. | Title | Regulation Identifier No.
211 | Fishery Management Plan for Regulating Offshore Marine Aquaculture in the Gulf of Mexico (Reg Plan Seq No. 37) | 0648-AS65
212 | Addendum IV to the Weakfish Interstate Management Plan—Bycatch Trip Limit | 0648-AY41
213 | Implement the 2010 Shark Conservation Act Provisions and Other Regulations in the Atlantic Smoothhound Shark Fishery | 0648-BB02
214 | Amendment 7 to the 2006 Consolidated Highly Migratory Species Fishery Management Plan | 0648-BC09
215 | Amendment 43 to the FMP for BSAI King and Tanner Crabs and Amendment 103 to the FMP for Groundfish of the BSAI | 0648-BC34
216 | Pacific Coast Groundfish Trawl Rationalization Program Trailing Action: Rule to Modify Chafing Gear Regulations for Midwater Trawl Gear Used in the Pacific Coast Groundfish Fishery | 0648-BC84
217 | Codifying the Initial Vessel Monitoring System Type-Approval Process and Requirements, and the Recertification and Revocation Processes | 0648-BD02
218 | Regulatory Amendment 14 to the Fishery Management Plan for the Snapper-Grouper Fishery of the South Atlantic Region | 0648-BD07
219 | Amendment 105 Bering Sea Flatfish Harvest Specifications Flexibility | 0648-BD23
220 | Pacific Coast Groundfish Trawl Rationalization Program Trailing Actions: Permitting Requirements for Observer and Catch Monitor Providers | 0648-BD30
221 | International Fisheries; Western and Central Pacific Fisheries for Highly Migratory Species; Fishing Restrictions regarding the Oceanic Whitetip Shark, the Whale Shark, and the Silky Shark | 0648-BD44
222 | Southern New England Effort Controls to Address Lobster Stock Rebuilding Measures | 0648-BD45
223 | Amendment 97 to the Fishery Management Plan for Groundfish of the Gulf of Alaska to Establish Chinook Salmon Prohibited Species Catch Limits for the Non-Pollock Trawl Fisheries | 0648-BD48
224 | Implementation of the Inter-American Tropical Tuna Commission Resolution to Establish a Vessel Monitoring System Program in the Eastern Pacific Ocean | 0648-BD54
225 | South Atlantic Coastal Migratory Pelagics Framework Action 2013 (Section 610 Review) | 0648-BD58
226 | Information Collection Program for Atlantic Surfclam and Ocean Quahog Fisheries | 0648-BD64
227 | Amendment 96 to the Fishery Management Plan for Groundfish of the Gulf of Alaska to revise the Community Quota Entity Program | 0648-BD74
228 | Amendment 8 to the Fishery Management Plan for Coral, Coral Reefs, and Live/Hard Bottom Habitats of the South Atlantic Region | 0648-BD81
229 | Temporary Rule Through Emergency Action to Revise Annual Catch Limits and Accountability Measures for Blueline Tilefish and the Deep-Water Complex in the South Atlantic Region | 0648-BD87
230 | Amendment 100 to the FMP for Groundfish of the BSAI Management Area and Amendment 91 to the FMP for Groundfish of the Gulf of Alaska to add Grenadiers to the Ecosystem Component Category | 0648-BD98
231 | Implementation of a Gulf of Alaska Trawl Fishery Economic Data Collection Program | 0648-BE09
232 | Amendment and Updates to the Bottlenose Dolphin Take Reduction Plan | 0648-BB37
233 | Designation of Critical Habitat for the Distinct Population Segments of Yelloweye Rockfish, Canary Rockfish, and Bocaccio | 0648-BC76
References in boldface appear in The Regulatory Plan in part II of this issue of the Federal Register.

National Oceanic and Atmospheric Administration—Long-Term Actions
Sequence No. | Title | Regulation Identifier No.
234 | Comprehensive Fishery Management Plan for Puerto Rico | 0648-BD32
235 | Comprehensive Fishery Management Plan for St. Croix | 0648-BD33
236 | Comprehensive Fishery Management Plan for St. Thomas/St. John | 0648-BD34
237 | Marine Mammal Protection Act Permit Regulation Revisions | 0648-AV82
238 | Endangered and Threatened Species: Designation of Critical Habitat for Threatened Lower Columbia River Coho Salmon and Puget Sound Steelhead | 0648-BB30
239 | Designation of Critical Habitat for the Beringia Distinct Population Segment of the Bearded Seal | 0648-BC55

National Oceanic and Atmospheric Administration—Completed Actions
Sequence No. | Title | Regulation Identifier No.
240 | American Lobster Fishery; Fishing Effort Control Measures to Complement Interstate Lobster Management Recommendations by the Atlantic States Marine Fisheries Commission | 0648-AT31
241 | Magnuson-Stevens Fishery Conservation and Management Reauthorization Act (MSRA) Environmental Review Procedure | 0648-AV53
242 | Amendment 6 to the Monkfish Fishery Management Plan | 0648-BA50
243 | Generic Amendment to Several Fishery Management Plans in the Gulf of Mexico and South Atlantic Regions to Modify Federally-Permitted Seafood Dealer Reporting Requirements | 0648-BC12
244 | Georges Bank Yellowtail Flounder Emergency Action to Provide a Partial Exemption from Accountability Measures to the Atlantic Scallop Fishery | 0648-BC33
245 | Modification to the Hired Skipper Regulations for Management of the Individual Fishing Quota Program for the Fixed-Gear Commercial Fisheries for Pacific Halibut and Sablefish in Waters of Alaska | 0648-BC62
246 | Amendment 3 to the Spiny Dogfish Fishery Management Plan | 0648-BC77
247 | Amendment 5 to the Fishery Management Plan for the Dolphin Wahoo Fishery of the Atlantic | 0648-BD08
248 | Allowing Northeast Multispecies Sector Vessels Access to Year Round Closed Areas | 0648-BD09
249 | Pacific Coast Groundfish Trawl Rationalization Program; Second Program Improvement and Enhancement Rule | 0648-BD31
250 | Modifications to the Pacific Coast Groundfish Trawl Rockfish Conservation Area Boundaries | 0648-BD37
251 | Framework Adjustment 8 to the Atlantic Mackerel, Squid and Butterfish Fishery Management Plan | 0648-BD50
252 | Implementation of the Inter-American Tropical Tuna Commission Resolution for the Conservation of Whale Sharks and the Collection and Analyses of Data on Fish Aggregating Devices | 0648-BD53
253 | Implementation of the Inter-American Tropical Tuna Commission Resolution to Adopt Conservation and Management Measures for Pacific Bluefin Tuna in the Eastern Pacific Ocean | 0648-BD55
254 | Framework Adjustment 8 to the Monkfish Fishery Management Plan | 0648-BD56
255 | 2014 Specifications and Management Measures for the Atlantic Mackerel, Squid, and Butterfish Fisheries | 0648-BD65
256 | Modifications to Identification Markings on Fishing Gear Marker Buoys | 0648-BD66
257 | Pacific Coast Whiting Fishery for 2014 | 0648-BD75
258 | Pacific Halibut Fisheries; Catch Sharing Plan | 0648-BD82
259 | Amendment 20A to the Fishery Management Plan for the Coastal Migratory Pelagic Resources of the Gulf of Mexico and Atlantic Region | 0648-BD83
260 | Framework Adjustment 51 to the Northeast Multispecies Fishery Management Plan | 0648-BD88
261 | Framework Adjustment 2 to the Northeast Skate Complex Fishery Management Plan | 0648-BD99
262 | Framework Adjustment 25 to the Atlantic Sea Scallop Fishery Management Plan | 0648-BE07
263 | Pacific Coast Groundfish Trawl Rationalization Program; Correction to the 2014 Shorebased Trawl Allocation Table | 0648-BE14
264 | 2014 Summer Flounder, Scup, and Black Sea Bass Recreational Harvest Measures | 0648-BE16
265 | 2014-2015 Spiny Dogfish Specifications | 0648-BE17
266 | Amending the Atlantic Large Whale Take Reduction Plan | 0648-BC90
267 | Designation of Critical Habitat for the Northwest Atlantic Ocean Loggerhead Sea Turtle DPS and the Determination Regarding Critical Habitat for the North Pacific Ocean Loggerhead DPS | 0648-BD27

DEPARTMENT OF COMMERCE (DOC)

National Oceanic and Atmospheric Administration (NOAA)

Prerule Stage

National Marine Fisheries Service

185. Inner Limit of the Exclusive Economic Zone Under the Magnuson-Stevens Fishery Conservation and Management Act

Legal Authority: 16 U.S.C. 1801 et seq.

Abstract: This action would define the term “inner limit of the exclusive economic zone” under the Magnuson-Stevens Fishery Conservation and Management Act (MSA). The MSA establishes sovereign rights and exclusive management authority over fishery resources of the U.S. Exclusive Economic Zone. The inner limit of the Exclusive Economic Zone is described as a line coterminous with the seaward boundary of each of the coastal states. National Marine Fisheries Service (NMFS), as well as the U.S. Coast Guard and state partners, enforce Federal fishery regulations on the basis of the 3 nautical mile line as it is represented on National Oceanic and Atmospheric Administration (NOAA) charts. The use of 3 nautical mile line has caused confusion when NOAA charts are updated because the baseline for establishing this line is ambulatory. NMFS proposes to clarify/correct this by defining this seaward boundary line to be a line established pursuant to the Submerged Lands Act.

Timetable:

Action | Date | FR Cite
ANPRM | 12/00/14 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BC92

DEPARTMENT OF COMMERCE (DOC)

National Oceanic and Atmospheric Administration (NOAA)

Proposed Rule Stage

National Marine Fisheries Service

186. Requirements for Importation of Fish and Fish Product Under the U.S. Marine Mammal Protection Act

Regulatory Plan: This entry is Seq. No. 33 in part II of this issue of the Federal Register.

RIN: 0648-AY15

187. Atlantic Highly Migratory Species; Future of the Atlantic Shark Fishery

Legal Authority: 16 U.S.C. 1801 et seq.; 16 U.S.C. 971 et seq.

Abstract: The National Marine Fisheries Service is considering adjusting the regulations governing the U.S. Atlantic shark fishery to address current fishery issues and to identify specific shark fishery goals for the future. This action will discuss potential changes to the quota and/or permit structure that are currently in place for the Atlantic shark fishery, and various catch share programs such as limited access privilege programs, individual fishing quotas, and sectors for the Atlantic shark fishery.

Timetable:

Action | Date | FR Cite
ANPRM | 09/20/10 | 75 FR 57235
ANPRM Comment Period End | 01/14/11 |
Notice | 05/27/14 | 79 FR 30064
NPRM | 12/00/14 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BA17

188. Amendment 22 to the Fishery Management Plan for the Snapper Grouper Fishery of the South Atlantic Region

Legal Authority: 16 U.S.C. 1801 et seq.

Abstract: The red snapper stock in the South Atlantic was assessed through the Southeast, Data, Assessment, and Review process in 2008 and 2010. The assessments indicate that the stock is experiencing overfishing and is overfished. As a result of the 2008 assessment, fishing for red snapper has been prohibited in Federal waters off the south Atlantic states since January 4, 2010. In Amendment 22, the National Marine Fisheries Service and the South Atlantic Fishery Management Council are considering alternatives to change the current harvest restrictions on red snapper as the stock increases in biomass. Examples of measures under consideration include the implementation of red snapper trip limits, bag limits, a catch share program, tag program, temporal and spatial closures including those to protect spawning stocks, and gear prohibitions.

Timetable:

Action | Date | FR Cite
Notice of Intent | 01/03/11 | 76 FR 101
Notice of Intent Comment Period End | 02/14/11 |
NPRM | 09/00/15 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BA53

189. Fisheries Off West Coast States; West Coast Salmon Fisheries; Amendment 18; Essential Fish Habitat Descriptions for Pacific Salmon

Legal Authority: 16 U.S.C. 1801 et seq.

Abstract: The action would implement Amendment 18 to the Pacific Coast Salmon Fishery Management Plan. The purpose of the amendment is to address revisions to the Pacific coast salmon essential fish habitat provisions under the Magnuson-Stevens Fishery Conservation and Management Act.

Timetable:

Action | Date | FR Cite
Notice | 06/16/14 | 79 FR 34272
NPRM | 12/00/14 |

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BC95

190. Amendment 5B to the Highly Migratory Species Fishery Management Plan

Legal Authority: 16 U.S.C. 1801 et seq.; 16 U.S.C. 971 et seq.

Abstract: This rulemaking would propose management measures for dusky sharks, based on a recent stock assessment, taking into consideration comments received on the proposed rule and Amendment 5 to the 2006 Consolidated Highly Migratory Species Fishery Management Plan. This rulemaking could consider a range of commercial and recreational management measures in both directed and incidental shark fisheries including, among other things, gear modifications, time/area closures, permitting, shark identification requirements, and reporting requirements. NMFS determined that dusky sharks are still overfished and still experiencing overfishing and originally proposed management measures to end overfishing and rebuild dusky sharks in a proposed rule for Draft Amendment 5 to the 2006 Consolidated Atlantic Highly Migratory Species Fishery Management Plan. That proposed rule also contained management measures for scalloped hammerhead, sandbar, blacknose and Gulf of Mexico blacktip sharks. NMFS decided to move forward with Draft Amendment 5's management measures for scalloped hammerhead, sandbar, blacknose and Gulf of Mexico blacktip sharks in a final rule and final amendment that will now be referred to as “Amendment 5a” to the 2006 Consolidated Atlantic Highly Migratory Species Fishery Management Plan. Dusky shark management measures will be addressed in this separate, but related, action and will be referred to as “Amendment 5b.”

Timetable:

Action | Date | FR Cite
NPRM | 05/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD22

191. Amendment 39 to the Fishery Management Plan for the Reef Fish Resources of the Gulf of Mexico

Legal Authority: 16 U.S.C. 1801 et seq.

Abstract: The purpose of this action is to facilitate management of the recreational red snapper component in the reef fish fishery by reorganizing the federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
Next State Undetermined | 01/00/15 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD25

192. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: criteria for transshipping in port; criteria for transshipping at sea by longline vessels to an authorized carrier vessel with an Inter-American Tropical Tuna Commission observer onboard and an operational vessel monitoring system; and require a Pacific Transshipment Declaration Form, which must be used to report transshipments in the Inter-American Tropical Tuna Commission Convention Area. The rule is neither applicable to troll and pole-and-line vessels, nor to vessels that transship fresh fish at sea. The frequency of transshipments in the Eastern Pacific Ocean is uncertain, but only a few transshipments are expected annually. A similar rule was adopted in the Western and Central Pacific Ocean and NMFS calculated that an average of twenty-four at-sea transshipments of fish caught by longline gear there have occurred annually from 1993 through 2009. Transshipments in the Eastern Pacific Ocean are likely to be much less than twenty-four per year. This rule is necessary for the United States to satisfy its international obligations under the 1949 Convention for the Establishment of an Inter-American Tropical Tuna, to which it is a Contracting Party.

Timetable:

Action | Date | FR Cite
NPRM | 12/00/14 |

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD59

193. Amendment 45 to the Fishery Management Plan for Bering Sea and Aleutian Islands King and Tanner Crab Freezer Longline Catcher/Processor Pacific Cod Sideboard Removal

Legal Authority: 16 U.S.C. 1801 et seq.

Abstract: This rule would establish conditions for the removal of Gulf of Alaska Pacific cod catch limits, known as sideboards, which apply to some catcher/processor vessels using hook-and-line gear, also known as freezer longliners. The newly reorganized sideboard limits have effectively eliminated the ability of these stakeholders to participant in these Gulf of Alaska fisheries. The rule would remove the Gulf of Alaska Pacific cod sideboards from 6 freezer longline vessels if owners of vessels endorsed to catch and process Pacific cod in the Western Gulf of Alaska, Central Gulf of Alaska, or both (a total of 9 vessels) agree to removal of the sideboards, within one year from the effective date of a final rule. If an agreement is not reached by the deadline, the sideboarded vessels would not be able to participate in the Gulf of Alaska fisheries. The requirement for an agreement is intended to promote cooperation among all affected parties prior to the removal of sideboards.

Timetable:

Action | Date | FR Cite
NPRM | 12/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BD61

194. Red Snapper Allocation—Amendment 28 to the Fishery Management Plan for the Reef Fish Resources of the Gulf of Mexico (Section 610 Review)

Legal Authority: 16 U.S.C. 1801 et seq.

Abstract: The current allocation of red snapper between the commercial and recreational sectors is 51:49 percent, respectively. The Gulf of Mexico Fishery Management Council (Council) is considering a change in the allocation with the aim of increasing the net benefits from red snapper fishing and increasing the stability of the red snapper component of the reef fish fishery, particularly for the recreational sector which has experienced shorter and shorter seasons. The Council initially considered options that increased the commercial sectors allocation above the current 51 percent. However, after considering the economic analyses conducted by the Southeast Fisheries Science Center and the loss of fishing opportunities by the recreational sector, the Council concluded that such a reallocation would not meet the purpose and need of this action. Therefore, the Council has limited the options under consideration to those that would increase the recreational sectors allocation above 49 percent.

Timetable:

Action | Date | FR Cite
NPRM | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD68

195. Amendment 7 to the FMP for the Dolphin Wahoo Fishery of the Atlantic and Amendment 33 to the FMP for the Snapper-Grouper Fishery of the South Atlantic

Legal Authority: 16 U.S.C. 1801 et seq.

Abstract: The intent of this amendment is to make regulations for dolphin and wahoo consistent with those existing regulations for snapper-grouper species. Amendment 7 to the Dolphin Wahoo Fishery Management Plan would allow fishermen to bring fillets of dolphin and wahoo from the Bahamas into the U.S. exclusive economic zone, as regulations already allow fillets of snapper-grouper species to be brought from the Bahamas into the U.S. exclusive economic zone. This rule would allow fishermen to bring fillets of dolphin and wahoo into the U.S. exclusive economic zone that were lawfully harvested in Bahamian waters, provided valid Bahamian fishing and cruising permits are on board the vessel, and the vessel is in transit through the Atlantic exclusive economic zone.

Timetable:

Action | Date | FR Cite
NPRM | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD76

196. Regulatory Amendment 16 to the Fishery Management Plan for the Snapper-Grouper Fishery of the South Atlantic Region

Legal Authority: 16 U.S.C. 1801 et seq.

Abstract: Regulatory Amendment 16 contains an action to address the prohibition on the use of black sea bass pots annually from November 1 through April 30 that was implemented through Regulatory Amendment 19. The prohibition was a precautionary measure to prevent interactions between black sea bass pot gear and whales listed under the Endangered Species Act during large whale migrations and the right whale calving season off the southeastern coast. The South Atlantic Fishery Management Council, through Regulatory Amendment 16, is considering removal of the closure, changing the length of the closure, and changing the area of the closure. The goal is to minimize adverse socio-economic impacts to black sea bass pot endorsement holders while maintaining protection for Endangered Species Act-listed whales in the South Atlantic region.

Timetable:

Action | Date | FR Cite
NPRM | 08/00/15 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD78

197. • Amendment 20B to the Fishery Management Plan for the Coastal Migratory Pelagic Resources of the Gulf of Mexico and Atlantic Region

Legal Authority: 16 U.S.C. 1801 et seq.

Abstract: This rule would adjust trip limits and fishing seasons for zones and subzones of the Gulf migratory group king mackerel. It would also allow transit of vessels with king mackerel on board through areas closed to king mackerel fishing, and would divide the annual catch limit for Atlantic migratory group king and Spanish mackerel into zones. Futhermore, the action addresses the results of the most recent stock assessment for cobia, and divides the annual catch limit into zones. The need for the proposed action is to achieve optimum yield while ensuring regulations are fair and equitable, and fishery resources are utilized efficiently.

Timetable:

Action | Date | FR Cite
NPRM | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD86

198. • Modify the Fisheries Financing Program to Allow the Financing of New Replacement Fishing Vessel Construction in Limited Access Fisheries

Legal Authority: 16 U.S.C. 4101; 46 U.S.C. 53701

Abstract: This rulemaking will propose to amend the Fisheries Finance Program's regulations to allow the financing of new vessel construction and rehabilitation of existing vessels in limited access fisheries. This rule is intended to implement the authority provided by Congress, as well as additional lending authority of $41 million in 2014, to support efforts to recapitalize the fishing fleets in limited access fisheries.

Timetable:

Action | Date | FR Cite
ANPRM | 06/30/14 | 79 FR 36699
NPRM | 02/00/15 |

Regulatory Flexibility Analysis Required: Yes.

Agency Contact: Donna Rivelli, Acting Director, Office of Management and Budget, Department of Commerce, National Oceanic and Atmospheric Administration, 1315 East-West Hwy, Silver Spring, MD 20910, Phone: 301 327-8795.

RIN: 0648-BE15

199. • Comprehensive Amendment to the U.S. Caribbean Fishery Management Plans: Annual Catch Limit Control Rule

Legal Authority: 16 U.S.C. 1801 et seq.

Abstract: The purpose of this comprehensive amendment is to establish a control rule to modify the buffer reduction that is applied to the overfishing limit or to the acceptable biological catch (if specified) to derive an annual catch limit in response to changes in the overfishing status of any U.S. Caribbean fishery management unit. The annual catch limit control rule would apply a specific buffer reduction based on the current status of the fishery management unit as determined by the National Marine Fisheries Service. The proposed rule implementing this action would apply a 15% buffer reduction to the overfishing limit or to the acceptable biological catch for units determined to be subject to overfishing, and a 10% buffer reduction to the overfishing limit or the acceptable biological catch for units determined not to be subject to overfishing in a specific year. Specific units would be exempted from the application of the control rule and buffer reductions established for those units in the 2010 and 2011 Caribbean annual catch limit Amendments would continue to be applied. Establishing this control rule would provide for a new and straightforward process that would allow for annual catch limit revisions based on overfishing status.

Timetable:

Action | Date | FR Cite
NPRM | 04/00/15 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BE28

200. • Abrir La Sierra Bank, Bajo De Sico, and Tourmaline Bank Consistency Amendment

Legal Authority: 16 U.S.C. 1801 et seq.

Abstract: The regulatory amendment would establish consistent regulations among three management areas off the west coast of Puerto Rico (Abrir la Sierra Bank, Bajo de Sico, Tourmaline Bank). Regulations differ among these areas within federal waters, as well as between state and federal boundaries for the two areas (Tourmaline Bank and Bajo de Sico) that cross the two jurisdictions. The purpose of this amendment is to establish consistent federal regulations across the three areas, while ensuring adequate protection of spawning aggregations of reef fish and the benthic habitat supporting those aggregations, which also serves as residential, recruitment, and foraging habitat for a variety of species. The proposed action would: Modify the length of the seasonal closures; modify reef fish, spiny lobster, and highly migratory species fishing regulations; modify anchoring restrictions; and modify spearfishing prohibitions within the management areas.

Timetable:

Action | Date | FR Cite
NPRM | 04/00/15 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BE32

201. • Regulatory Amendment To Change the Definition of Sport Fishing Guide Services for Pacific Halibut in International Pacific Halibut Commission Area 2C and Area 3A

Legal Authority: 16 U.S.C. 773 et seq.

Abstract: NMFS proposes regulations that would revise Federal regulatory text regarding sport fishing guide services for Pacific halibut in International Pacific Halibut Commission Regulatory Areas 2C (Southeast Alaska) and 3A (Central Gulf of Alaska) to remove the requirement that a charter vessel guide be on board the same vessel as a charter vessel angler to provide sport fishing guide services. The proposed action would clarify that all sport fishing in which anglers receive assistance from a compensated guide will be managed under charter fishery regulations and all harvest will accrue toward charter allocations. This action would align Federal regulations with State of Alaska regulations. If approved, the definition of “sport fishing guide services” would be revised and a definition for “compensation” would be added to Federal regulations. Additional minor changes to the regulatory text pertaining to the charter halibut fishery would be required to maintain consistency in the regulations with these new definitions. This action is necessary to achieve the halibut fishery management goals of the North Pacific Fishery Management Council.

Timetable:

Action | Date | FR Cite
NPRM | 12/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BE41

202. • Framework Action To Revise Recreational Accountability Measures for Red Snapper

Legal Authority: 16 U.S.C. 1801 et seq.

Abstract: To address the court ruling in Guindon v. Pritzker, (Mar. 26, 2014), the Gulf of Mexico Fishery Management Council developed this framework action that evaluates two accountability measures for the recreational red snapper sector. The first recreational accountability measure action would establish an annual catch target that is lower than the quota/annual catch limit and set the recreational season length based on the annual catch target. Currently, the season length is set based on the quota/annual catch limit. The second recreational accountability measure action would establish an overage adjustment to mitigate the effects of any overage by reducing the quota/annual catch limit in the following year.

Timetable:

Action | Date | FR Cite
NPRM | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BE44

203. • Rule for Amendment 16 to the Fishery Management Plan for the Shrimp Fishery of the Gulf of Mexico, U.S. Waters

Legal Authority: 16 U.S.C. 1801 et seq.

Abstract: The purpose of this rule is to change the annual catch limit and select an accountability measure for royal red shrimp. On January 30, 2012, NOAA Fisheries implemented regulations developed through a generic annual catch limit and accountability measure amendment to multiple fishery management plans, including the Shrimp fishery management plan. However, the “no action” alternatives and discussions were incorrect in stating that there were currently no management restrictions or accountability measures for that species although a quota and in-season quota closure were in the regulations. Now, the quota and in-season closure are in conflict with the subsequently established annual catch limit and accountability measure. The rule would remove the quota and in-season closure, and increase the annual catch limit. The current accountability measure, which requires in-season monitoring and closure the year following an annual catch limit overage, will remain in effect.

Timetable:

Action | Date | FR Cite
NPRM | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BE46

204. • Amendment 40 to the Fishery Management Plan for the Reef Fish Resources of the Gulf of Mexico

Legal Authority: 16 U.S.C. 1801 et seq.

Abstract: This proposed rule would define distinct private angling and federal for-hire components of the recreational red snapper fishery and allocate red snapper resources between the components of the recreational sector to increase stability for the for-hire component; provide a basis for increased flexibility in future management of the recreational sector; and minimize the chance for recreational quota overruns which could jeopardize the rebuilding of the red snapper stock. More specifically this action would define the components of the recreational sector and establish the baseline allocation how the allocation would be adjusted if membership in the federal for-hire component is voluntary and recreational season closure provisions for each component.

Timetable:

Action | Date | FR Cite
NPRM | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BE47

205. • 2015 Specifications and Management Measures for the Atlantic Mackerel, Squid, and Butterfish Fisheries

Legal Authority: 16 U.S.C. 1801 et seq.

Abstract: This proposed rule would establish catch levels and associated management measures for the 2015-2017 fishing years for species managed under the Atlantic Mackerel Squid and Butterfish Fishery Management Plan. More specifically this action would: renew status quo quotas on longfin and Illex squids for an additional 3 years; lower the cap on river herring and shad catch in the mackerel fishery; increase the cap on river herring and shad catch in the mackerel fishery once the mackerel fishery catches more than 10000 mt tons; lower the Atlantic mackerel quota; substantially increase the butterfish quota; and simplify the controls on butterfish daily trip limits.

Timetable:

Action | Date | FR Cite
NPRM | 12/00/14 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BE49

206. Designation of Critical Habitat for the North Atlantic Right Whale

Regulatory Plan: This entry is Seq. No. 34 in part II of this issue of the Federal Register.

RIN: 0648-AY54

207. Revision of Hawaiian Monk Seal Critical Habitat

Regulatory Plan: This entry is Seq. No. 35 in part II of this issue of the Federal Register.

RIN: 0648-BA81

208. Designate Critical Habitat for the Hawaiian Insular False Killer Whale Distinct Population Segment

Legal Authority: 16 U.S.C. 1533

Abstract: The proposed action, if approved, would designate critical habitat for the Hawaiian insular false killer whale distinct population segment, pursuant to section 4 of the Endangered Species Act (ESA). Proposed critical habitat would only be designated in the main Hawaiian Islands as the Hawaiian insular false killer whales range is restricted from nearshore out to 140 km from the main Hawaiian Islands. Impacts from the designation stem mainly from Federal agencies requirement to consult with National Marine Fisheries Service, under section 7 of the ESA, to insure that any action they carry out, permit (authorize), or fund will not result in the destruction or adverse modification of critical habitat of a listed species.

Timetable:

Action | Date | FR Cite
NPRM | 04/00/15 |

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-BC45

209. Designation of Critical Habitat for the Arctic Ringed Seal

Legal Authority: 16 U.S.C. 1531 et seq.

Abstract: The National Marine Fisheries Service (NMFS) published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The proposed critical habitat designation would be in the northern Bering, Chukchi, and Beaufort seas within the current range of the species.

Timetable:

Action | Date | FR Cite
NPRM | 12/00/14 |

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-BC56

NOS/ONMS

210. Revisions to Hawaiian Islands Humpback Whale National Marine Sanctuary Regulations

Legal Authority: 16 U.S.C. 1431 et seq.

Abstract: In 2010, the Office of National Marine Sanctuaries (ONMS) initiated a review of the Hawaiian Islands Humpback Whale National Marine Sanctuary management plan, to evaluate substantive progress toward implementing the goals for the sanctuary, and to make revisions to its management plan and regulations as necessary to fulfill the purposes and policies of the National Marine Sanctuaries Act (NMSA) and the Hawaiian Islands National Marine Sanctuary Act (HINMSA; Title II, Subtitle C, Pub. L. 102587). ONMS intends to publish a proposed rule and draft EIS that proposes to expand the scope of the sanctuary to ecosystem based management rather than concentrating on only humpback whales. In addition, possible boundary expansion will be discussed.

Timetable:

Action | Date | FR Cite
Notice | 07/14/10 | 75 FR 40759
NPRM | 12/00/14 |

Regulatory Flexibility Analysis Required: Yes.

Agency Contact: Edward Lindelof, Department of Commerce, National Oceanic and Atmospheric Administration, 1315 East-West Highway, Silver Spring, MD 20910, Phone: 301 713-3137, Email: edward.lindelof@noaa.gov.

RIN: 0648-BD97

DEPARTMENT OF COMMERCE (DOC)

National Oceanic and Atmospheric Administration (NOAA)

Final Rule Stage

National Marine Fisheries Service

211. Fishery Management Plan for Regulating Offshore Marine Aquaculture in the Gulf of Mexico

Regulatory Plan: This entry is Seq. No. 37 in part II of this issue of the Federal Register.

RIN: 0648-AS65

212. Addendum IV to the Weakfish Interstate Management Plan—Bycatch Trip Limit

Legal Authority: 16 U.S.C. 5101

Abstract: This action would modify management restrictions in the Federal weakfish fishery in a manner consistent with the Atlantic States Marine Fisheries Commission Interstate Plan. The proposed change would decrease the incidental catch allowance for weakfish in the exclusive economic zone in non-directed fisheries using smaller mesh sizes, from 150 pounds to no more than 100 pounds per day or trip, whichever is longer in duration. In addition, it would impose a one fish possession limit on recreational fishers.

Timetable:

Action | Date | FR Cite
NPRM | 05/12/10 | 75 FR 26703
NPRM Comment Period End | 06/11/10 |
NPRM Comment Period Re-opened | 06/16/10 | 75 FR 34092
Comment Period End | 06/30/10 |
Final Action | 12/00/14 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-AY41

213. Implement the 2010 Shark Conservation Act Provisions and Other Regulations in the Atlantic Smoothhound Shark Fishery

Legal Authority: 16 U.S.C. 1801 et seq.

Abstract: This rule considers implementing the provisions of the 2010 Shark Conservation Act and other regulations in the Atlantic Smoothhound Fishery (which includes smooth dogfish and the Florida smoothhound). Specifically, this action would: (1) Modify regulations for smooth dogfish as needed to be consistent with the Shark Conservation Act; (2) consider other management measures, as needed, including the terms and conditions of the Endangered Species Act Smoothhound Biological Opinion; and (3) consider revising the current smoothhound shark quota based on updated catch data.

Timetable:

Action | Date | FR Cite
NPRM | 08/07/14 | 79 FR 46217
Final Action | 06/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BB02

214. Amendment 7 to the 2006 Consolidated Highly Migratory Species Fishery Management Plan

Legal Authority: 16 U.S.C. 1801 et seq.; 16 U.S.C. 971 et seq.

Abstract: Amendment 7 focuses on bluefin tuna fishery management issues consistent with the need to end overfishing and rebuild the stock. Measures in draft Amendment 7 address several of the long-standing challenges facing the fishery and will analyze, among other things, revisiting quota allocations; reducing and accounting for dead discards; adding or modifying time/area closures or gear-restricted areas; and improving the reporting and monitoring of dead discards and landings in all categories.

Timetable:

Action | Date | FR Cite
Notice | 04/23/12 | 77 FR 24161
Notice | 06/08/12 | 77 FR 34025
NPRM | 08/21/13 | 78 FR 52032
NPRM Comment Period Extended | 09/18/13 | 78 FR 57340
Public Hearing | 11/05/13 | 78 FR 66327
NPRM Comment Period Reopened | 12/11/13 | 78 FR 75327
Public Hearing | 12/26/13 | 78 FR 78322
Final Action | 12/00/14 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BC09

215. Amendment 43 to the FMP for BSAI King and Tanner Crabs and Amendment 103 to the FMP for Groundfish of the BSAI

Legal Authority: 16 U.S.C. 1801

Abstract: This rule would implement both Amendment 43 to the Fishery Management Plan for Bering Sea/Aleutian Islands King and Tanner Crabs and Amendment 103 to the Fishery Management Plan for Groundfish of the Bering Sea and Aleutian Islands Management Area. Amendment 43 revises the current rebuilding plan for Pribilof Islands blue king crab (blue king crab) and Amendment 103 implements groundfish fishing restrictions. A no-trawl Pribilof Islands Habitat Conservation Zone (Zone) was established in 1995 and the directed fishery for blue king crab has been closed since 1999. A rebuilding plan was implemented in 2003; however, blue king crab remains overfished and the current rebuilding plan has not achieved adequate progress towards rebuilding the stock by 2014. The rule would close the Zone to all Pacific cod pot fishing in addition to the current trawl prohibition. This measure would help support blue king crab rebuilding and prevent exceeding the overfishing limit of blue king crab by minimizing to the extent practical blue king crab bycatch in the groundfish fisheries.

Timetable:

Action | Date | FR Cite
Notice | 08/21/14 | 79 FR 49463
NPRM | 08/29/14 | 79 FR 51520
NPRM Comment Period End | 09/29/14 |
Final Action | 12/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC34

216. Pacific Coast Groundfish Trawl Rationalization Program Trailing Action: Rule To Modify Chafing Gear Regulations for Midwater Trawl Gear Used in the Pacific Coast Groundfish Fishery

Legal Authority: 16 U.S.C. 1801 et seq.

Abstract: This action would modify the existing chafing gear regulations for midwater trawl gear, and includes housekeeping measures to clarify which vessels can use midwater trawl gear and where midwater trawl gear can be used. This action includes regulations that affect all trawl sectors (Shorebased Individual Fishing Quota Program, Mothership Cooperative Program, Catcher/Processor Cooperative Program, and tribal fishery) managed under the Pacific Coast Groundfish Fishery Management Plan.

Timetable:

Action | Date | FR Cite
NPRM | 03/19/14 | 79 FR 15296
NPRM Correction Notice | 04/04/14 | 79 FR 18876
Final Action | 12/00/14 |

Regulatory Flexibility Analysis Required: Yes.

Agency Contact: Barry Thom, Deputy Regional Administrator, Northwest Region, NMFS, Department of Commerce, National Oceanic and Atmospheric Administration, Building 1, 7600 Sand Point Way NE., Seattle, WA 48115-0070, Phone: 206 526-6150, Fax: 206 526-6426, Email: barry.thom@noaa.gov.

William Stelle Jr., Regional Administrator West Coast Region, Department of Commerce, National Oceanic and Atmospheric Administration, 7600 Sand Point Way Northeast, Seattle, WA 98115, Phone: 206 526-6150.

RIN: 0648-BC84

217. Codifying the Initial Vessel Monitoring System Type-Approval Process and Requirements, and the Recertification and Revocation Processes

Legal Authority: 16 U.S.C. 1801 et seq.

Abstract: All vessels participating in a National Oceanic and Atmospheric Administration Vessel Monitoring System program are required to acquire a National Marine Fisheries Service-approved mobile transmitting unit to comply with the Vessel Monitoring System requirements. Previously, this action was only taken through the publication of a notice in the Federal Register. However, this rule will establish the type-approval standards, specifications, and procedures that vendors may reference to maintain type-approval for their products and/or services. This action will establish type-approval standards for the initial approval, subsequent assessments, and the procedures for rescinding the type-approval if the vendor fails to comply with the performance standards. This action is necessary to ensure Vessel Monitoring System vendors continue to meet minimum performance standards over the long term.

Timetable:

Action | Date | FR Cite
NPRM | 09/09/14 | 79 FR 53386
Final Action | 12/00/14 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD02

218. Regulatory Amendment 14 to the Fishery Management Plan for the Snapper-Grouper Fishery of the South Atlantic Region

Legal Authority: 16 U.S.C. 1801 et seq.

Abstract: The purpose of Regulatory Amendment 14 is to enhance socioeconomic benefits to fishermen and fishing communities that utilize the snapper-grouper fishery. Specifically, this rulemaking modifies the fishing year for greater amberjack, increases the minimum size limit for hogfish, modify the fishing year for black sea bass, changes the commercial fishing season for vermilion snapper, modifies the aggregate grouper bag limit, and revises the accountability measures for gag and vermilion snapper. Modifying the accountability measures for gag and vermilion snapper would enhance consistency and accuracy in the approach taken when the annual catch limit is met or projected to be met for these species.

Timetable:

Action | Date | FR Cite
Notice | 04/17/13 | 78 FR 22846
Notice | 08/02/13 | 78 FR 46925
NPRM | 04/27/14 | 79 FR 22936
Final Action | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD07

219. Amendment 105 Bering Sea Flatfish Harvest Specifications Flexibility

Legal Authority: 16 U.S.C. 1801 et seq.

Abstract: This action intends to provide additional harvest opportunities to participants in Bering Sea and Aleutian Islands (BSAI) flatfish fisheries while (1) maintaining catch below the annual catch limits for these species, and (2) ensuring that the maximum optimum yield for BSAI groundfish fisheries will not be exceeded. Specifically, Amendment 105 to the BSAI Fishery Management Plan would establish a process for Amendment 80 cooperatives and Western Alaska Community Development Quota groups to exchange harvest quota from one of the three flatfish species for an equivalent amount of quota of another species. In no case could the amount of fish exchanged exceed the annual catch limit, commonly known as the allowable biological catch, of that species. This action would modify the annual harvest specification process to allow the North Pacific Fishery Management Council (Council) to establish the maximum amount of harvest quota that can be exchanged for each of the three flatfish species. This process would allow the Council to establish a buffer below the allowable biological catch to account for management or socioeconomic considerations. Each participant could only exchange harvest quota up to three times per year. This action is intended to promote the goals and objectives of the BSAI Fishery Management Plan, the Magnuson-Stevens Fishery Conservation and Management Act, and other applicable laws.

Timetable:

Action | Date | FR Cite
Notice | 06/13/14 | 79 FR 33889
NPRM | 06/30/14 | 79 FR 36702
Final Action | 12/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BD23

220. Pacific Coast Groundfish Trawl Rationalization Program Trailing Actions: Permitting Requirements for Observer and Catch Monitor Providers

Legal Authority: 16 U.S.C. 1801 et seq.

Abstract: This action would modify regulations pertaining to certified catch monitors and observers required under the Pacific Coast Groundfish Fishery Management Plan. The action specifies permitting requirements for business entities interested in providing certified observers and catch monitor services, as well as addresses numerous housekeeping measures and updates observer provider and vessel responsibilities relative to observer safety such that the regulations are consistent with the Coast Guard and Maritime Transportation Act of 2012. This action affects individuals serving as certified catch monitors and observers, business entities that provide certified catch monitors and observers, vessels that are required to carry certified observers, and shore-based business entities that are required to employ the services of certified catch monitors.

Timetable:

Action | Date | FR Cite
NPRM | 02/19/14 | 79 FR 9591
Final Action | 12/00/14 |

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD30

221. International Fisheries; Western and Central Pacific Fisheries for Highly Migratory Species; Fishing Restrictions Regarding the Oceanic Whitetip Shark, the Whale Shark, and the Silky Shark

Legal Authority: 16 U.S.C. 6901 et seq.

Abstract: The rule would establish regulations under authority of the Western and Central Pacific Fisheries Convention Implementation Act to implement decisions of the Commission for the Conservation and Management of Highly Migratory Fish Stocks in the Western and Central Pacific Ocean on fishing restrictions regarding the oceanic whitetip shark and the whale shark. The regulations would apply to owners and operators of U.S. fishing vessels used for commercial fishing for highly migratory species in the area of application of the Convention on the Conservation and Management of Highly Migratory Fish Stocks in the Western and Central Pacific Ocean (Convention). The regulations for oceanic whitetip sharks would prohibit the retention, transshipment, storage, or landing of oceanic whitetip sharks and would require the release of any oceanic whitetip shark as soon as possible after it is caught. The regulations for whale sharks would prohibit setting a purse seine on a whale shark and would specify certain measures to be taken and reporting requirements in the event a whale shark is encircled in a purse seine net. This action is necessary for the United States to satisfy its obligations under the Convention, to which it is a Contracting Party.

Timetable:

Action | Date | FR Cite
NPRM | 08/22/14 | 79 FR 49745
Final Action | 12/00/14 |

Regulatory Flexibility Analysis Required: Yes.

Agency Contact: Michael Tosatto, Regional Administrator for the Pacific Islands Region, Department of Commerce, National Oceanic and Atmospheric Administration, 1601 Kapiolani Boulevard, Suite 1110, Honolulu, HI 96814, Phone: 808 944-2281.

RIN: 0648-BD44

222. Southern New England Effort Controls to Address Lobster Stock Rebuilding Measures

Legal Authority: 16 U.S.C. 1801 et seq.

Abstract: NMFS is considering to make revisions to Federal American lobster regulations intended to assist in rebuilding the Southern New England lobster stock. The proposed measures include trap reductions in Lobster Management Areas 2 and 3, a minimum carapace size increase for Lobster Management Area 3, mandatory v-notching of egg-bearing female lobster in Lobster Management Areas 2, 4, and 5, and seasonal closures in Lobster Management Areas 4, 5, and 6. These actions are recommended for Federal implementation by the Atlantic States Marine Fisheries Commission (Commission). The proposed stock rebuilding measures were recommended by the Commission in consultation with some, but not all, Federal lobster permit holders through associated industry participation on the Commissions Lobster Conservation Management Teams. While this action could limit fishing effort and landings by Federal lobster permit holders in Southern New England, the proposed measures are consistent with those already implemented by the affected States.

Timetable:

Action | Date | FR Cite
ANPRM | 08/20/13 | 78 FR 51131
NPRM | 07/25/14 | 79 FR 43379
Final Action | 12/00/14 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD45

223. Amendment 97 to the Fishery Management Plan for Groundfish of the Gulf of Alaska to Establish Chinook Salmon Prohibited Species Catch Limits for the Non-Pollock Trawl Fisheries

Legal Authority: 16 U.S.C. 1801 et seq.; 16 U.S.C. 773 et seq.

Abstract: This rule would limit Chinook salmon prohibited species catch in the Western and Central Gulf of Alaska non-pollock trawl fisheries. Chinook salmon is a fully utilized species in Alaska coastal subsistence, recreational, and commercial fisheries. In recent years the returns of Chinook salmon to some Alaska river systems have been below the biological escapement goals established by the State of Alaska. This action is necessary to minimize the catch of Chinook salmon to the extent practicable in the Gulf of Alaska non-pollock trawl fisheries. The rule would establish a 7,500 Chinook salmon prohibited species annual limit that would be seasonally apportioned among fishing vessel sectors. If a sector reached its Chinook salmon prohibited species limit, further directed fishing for groundfish by vessels in that sector and season would be prohibited. Vessel operators would be required to retain salmon until the number of salmon has been determined by the vessel or plant observer and the observers data collection has been completed. About 70 vessels could be affected by this action. This action could reduce revenues from the fisheries, if the Chinook salmon prohibited species limit is reached before the groundfish quota is harvested. The action may also increase costs if vessel operators move fishing operations or take other actions to lower their catch of Chinook salmon.

Timetable:

Action | Date | FR Cite
Notice | 06/05/14 | 79 FR 32525
NPRM | 06/25/14 | 79 FR 35971
Final Action | 12/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BD48

224. Implementation of the Inter-American Tropical Tuna Commission Resolution To Establish a Vessel Monitoring System Program in the Eastern Pacific Ocean

Legal Authority: 16 U.S.C. 951 et seq.; 16 U.S.C. 971 et seq.

Abstract: This rule would implement the Inter-American Tropical Tuna Commissions Resolution intended to require owners and operators of tuna-fishing vessels to have installed, activate, carry and operate vessel monitoring system units (also known as mobile transmitting units). This regulation would apply to owners and operators of tuna-fishing vessels 24 meters or more in length, operating in the eastern Pacific Ocean. The vessel monitoring system units would have to be type-approved, and authorize the Inter-American Tropical Tuna Commission and NMFS to receive and relay transmissions (also called position reports) from the vessel monitoring system unit. Vessel monitoring systems may enhance the safety of some vessels by allowing the vessels location to be tracked, which could assist in rescue efforts. This regulation would apply to commercial vessels and would not apply to recreational or charter vessels. This rule would apply to approximately seventy-four vessels, however, roughly thirty-eight of these vessels are already subject to vessel monitoring system requirements under the Western and Central Pacific Fisheries Commission. Due to the relatively small number of vessels affected, this rule is not expected to garner public opposition or congressional interest.

Timetable:

Action | Date | FR Cite
NPRM | 02/06/14 | 79 FR 7152
Correction | 02/25/14 | 79 FR 10465
Final Action | 03/00/15 |

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD54

225. South Atlantic Coastal Migratory Pelagics Framework Action 2013 (Section 610 Review)

Legal Authority: 16 U.S.C. 1801 et seq.

Abstract: Currently in the South Atlantic, transfer of harvested fish at sea is prohibited for any species under a commercial trip limit, and only two gillnets are allowed on a federally permitted Spanish mackerel vessel. In some instances the trip limit may be exceeded with just one gillnet set, and the excess fish must be discarded. Most discarded fish caught in gillnet gear die due to trauma caused during capture. The Framework Action would allow a portion of a gillnet and its contents to be transferred from a vessel that has met the Spanish mackerel trip limit to another vessel that has not yet reached the trip limit. Allowing transfer at sea for federally permitted Spanish mackerel vessels using gillnet gear is intended to reduce dead discards, and minimize waste when catch in one net exceeds the trip limit for the vessel. Additionally, the Framework Action would modify the commercial trip limits for Atlantic king mackerel in the Florida east coast subzone. The current system of trip limits may increase the rate of harvest causing the commercial sector to close before Lent, the most lucrative part of the fishing season. Therefore, the trip limit modifications that would be implemented through the Framework Action are expected to help minimize lost opportunities to fish, and optimize profitability in the king mackerel sector of the coastal migratory pelagics fishery.

Timetable:

Action | Date | FR Cite
NPRM | 03/19/14 | 79 FR 15293
Final Action | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD58

226. Information Collection Program for Atlantic Surfclam and Ocean Quahog Fisheries

Legal Authority: 16 U.S.C. 1801 et seq.

Abstract: NMFS is implementing this information collection program at the request of the Mid-Atlantic Fishery Management Council (Council). This program will collect additional information about the individuals who hold and/or control Individual Transferable Quota in the Atlantic surfclam and ocean quahog fisheries. This information will be used by the Council in the consideration and development of excessive shares cap(s) in these Individual Transferable Quota fisheries.

Timetable:

Action | Date | FR Cite
NPRM | 08/07/14 | 79 FR 46233
Final Action | 12/00/14 |

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD64

227. Amendment 96 to the Fishery Management Plan for Groundfish of the Gulf of Alaska to Revise the Community Quota Entity Program

Legal Authority: 16 U.S.C. 1801 et seq.; 16 U.S.C. 773 et seq.

Abstract: Amendment 96 to the Fishery Management Plan for Groundfish of the Gulf of Alaska would modify the halibut and sablefish Individual Fishing Quota Program regulations for management of community quota entities in the Gulf of Alaska. The action revises the Individual Fishing Quota Program by removing a restriction on community quota entities holdings of quota share. Removing this restriction provides community quota entities access to more affordable quota shares, which could enhance the ability of the community quota entities community to realize economic benefits from additional community resident participation in the halibut and sablefish fisheries.

Timetable:

Action | Date | FR Cite
Notice | 07/25/14 | 79 FR 43377
NPRM | 08/07/14 | 79 FR 46237
Final Action | 12/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BD74

228. Amendment 8 to the Fishery Management Plan for Coral, Coral Reefs, and Live/Hard Bottom Habitats of the South Atlantic Region

Legal Authority: 16 U.S.C. 1801 et seq.

Abstract: Coral Amendment 8 would modify the boundaries of the Oculina Bank Habitat Area of Particular Concern, the Stetson-Miami Terrace Coral Habitat Area of Particular Concern, and the Cape Lookout Coral Habitat Area of Particular Concern to protect deepwater coral ecosystems. The amendment also proposes to implement a transit provision through the Oculina Bank Habitat Area of Particular Concern for fishing vessels with rock shrimp onboard.

Timetable:

Action | Date | FR Cite
Notice | 05/20/14 | 79 FR 28880
NPRM | 06/03/14 | 79 FR 31907
Correction | 07/01/14 | 79 FR 37269
Final Action | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD81

229. Temporary Rule Through Emergency Action To Revise Annual Catch Limits and Accountability Measures for Blueline Tilefish and the Deep-Water Complex in the South Atlantic Region

Legal Authority: 16 U.S.C. 1801 et seq.

Abstract: In October 2013, NMFS determined the blueline tilefish stock in the South Atlantic is experiencing overfishing and is overfished. As mandated by Magnuson-Stevens Fishery Conservation and Management Act, NMFS and the Council must prepare and implement a plan amendment and regulations to end overfishing immediately and rebuild the stock by December 6, 2015. The Council and NMFS, through actions in a future amendment, plan to implement a rebuilding plan and management actions to end overfishing and rebuild the blueline tilefish stock. In the interim, NMFS will publish an emergency rule to implement temporary annual catch limits and accountability measures for blueline tilefish, and modify the current annual catch limits and accountability measures for the deep-water complex. The goal of this action is to minimize future adverse biological effects to the blueline tilefish stock, and the socio-economic effects to fishermen and fishing communities that utilize the blueline tilefish, while a permanent rulemaking designed to end overfishing and rebuild the stock is developed.

Timetable:

Action | Date | FR Cite
Emergency Rule | 04/17/14 | 79 FR 21636
Final Action | 12/00/14 |

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD87

230. Amendment 100 to the FMP for Groundfish of the BSAI Management Area and Amendment 91 to the FMP for Groundfish of the Gulf of Alaska To add Grenadiers to the Ecosystem Component Category

Legal Authority: 16 U.S.C. 1801 et seq.

Abstract: Amendments 100 and 91 would amend the Fishery Management Plan to add grenadiers to the ecosystem component category. Grenadiers are caught incidentally in the groundfish fisheries, and adding them to the Fishery Management Plans would recognize their role in the ecosystem. NMFS would also implement regulations for federally-permitted groundfish fishermen to improve reporting of grenadiers, limit retention, and prevent directed fishing for grenadiers. This action is necessary to limit the groundfish fisheries impact on grenadiers. Federally-permitted groundfish fishermen would be affected by the proposed rule, however, the anticipated impacts are considered to be de minimis according the economic analysis prepared for this action.

Timetable:

Action | Date | FR Cite
Notice of Availability | 05/05/14 | 79 FR 25558
NPRM | 05/14/14 | 79 FR 27557
Final Action | 12/00/14 |

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BD98

231. • Implementation of a Gulf of Alaska Trawl Fishery Economic Data Collection Program

Legal Authority: 16 U.S.C. 1801 et seq.; 16 U.S.C. 773 et seq.; 16 U.S.C. 3631 et seq.; Pub. L. 108-199

Abstract: NMFS proposes to implement the Trawl Economic Data Report Program to evaluate the economic effects of current and future groundfish and prohibited species catch management measures for the Gulf of Alaska trawl fisheries under the Fishery Management Plan for Groundfish of the Gulf of Alaska. This data collection program is necessary to provide the North Pacific Fishery Management Council and other analysts with baseline information on affected harvesters, crew, processors, and communities in the Gulf of Alaska that could be used to assess the impacts of major changes in the groundfish management regime, including catch share programs for prohibited species catch species and target species. The data collected for this program would be submitted by vessel owners and leaseholders of Gulf of Alaska trawl vessels, processors receiving deliveries from those trawl vessels, and Amendment 80 catcher/processors. The type of data collected may include, but would not be limited to labor information, revenues received, capital and operational expenses, and other operational or financial data.

Timetable:

Action | Date | FR Cite
NPRM | 08/11/14 | 79 FR 46758
Final Action | 12/00/14

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BE09

232. Amendment and Updates to the Bottlenose Dolphin Take Reduction Plan

Legal Authority: 16 U.S.C. 1361 et seq.; 16 U.S.C. 1531 et seq.

Abstract: This action would amend regulations under the Bottlenose Dolphin Take Reduction Plan (Plan) to reduce bottlenose dolphin serious injuries and mortalities incidental to the Virginia Pound net fishery. The Plan recommends the year-round use of modified leaders for offshore pound nets within parts of the Chesapeake Bay and Virginia coastal waters. Regulations for Virginia Pound Nets are currently implemented under the Endangered Species Act for sea turtle conservation. The Plan recommended similar regulations to those currently enacted under the Endangered Species Act; however, the regulations under the Plan will offer greater conservation benefits to both bottlenose dolphins and sea turtles. Because the regulations may affect current sea turtle regulations, a joint-rulemaking will be conducted under both the Marine Mammal Protection Act and Endangered Species Act to amend: (1) the Plan under the Marine Mammal Protection Act, proposing Virginia pound net requirements; and (2) current federal sea turtle regulations for Virginia pound nets under the Endangered Species Act to ensure consistency between regulations.

Timetable:

Action | Date | FR Cite
NPRM | 04/17/14 | 79 FR 21695
Final Action | 12/00/14

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-BB37

233. Designation of Critical Habitat for the Distinct Population Segments of Yelloweye Rockfish, Canary Rockfish, and Bocaccio

Legal Authority: 16 U.S.C. 1531 et seq.

Abstract: This action proposes to designate critical habitat under the Endangered Species Act for three Distinct Population Segments of rockfish in the Puget Sound/Georgia Basin: (1) the threatened Distinct Population Segments of yelloweye rockfish; (2) the threatened Distinct Population Segments of canary rockfish; and (3) the endangered Distinct Population Segments of bocaccio. The proposed specific areas for canary rockfish and bocaccio comprise approximately 505 hectares (1,249 acres) of marine habitat in Puget Sound. The proposed areas for yelloweye rockfish comprise approximately of 245 hectares (606 acres) of marine habitat in Puget Sound.

Timetable:

Action | Date | FR Cite
NPRM | 08/06/13 | 78 FR 47635
Final Action | 12/00/14

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-BC76

DEPARTMENT OF COMMERCE (DOC)

National Oceanic and Atmospheric Administration (NOAA)

Long-Term Actions

National Marine Fisheries Service

234. Comprehensive Fishery Management Plan for Puerto Rico

Legal Authority: 16 U.S.C. 1801 et seq.

Abstract: This comprehensive Puerto Rico Fishery Management Plan will incorporate, and modify as needed, Federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for each of St. Croix and St. Thomas/St. John, will replace the Spiny Lobster, Reef Fish, Coral and Queen Conch Fishery Management Plans presently governing the commercial and recreational harvest in U.S. Caribbean exclusive economic zone waters.

Timetable:

Action | Date | FR Cite
NPRM | 12/00/16

Regulatory Flexibility Analysis Required: Yes.

Agency Contact: Roy E. Crabtree, Phone: 727 824-5305, Fax: 727 824-5308, Email: roy.crabtree@noaa.gov.

RIN: 0648-BD32

235. Comprehensive Fishery Management Plan for St. Croix

Legal Authority: 16 U.S.C. 1801 et seq.

Abstract: This comprehensive St. Croix Fishery Management Plan will incorporate, and modify as needed, federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for each of Puerto Rico and St. Thomas/St. John, will replace the Spiny Lobster, Reef Fish, Coral and Queen Conch Fishery Management Plans presently governing the commercial and recreational harvest in U.S. Caribbean exclusive economic zone waters.

Timetable:

Action | Date | FR Cite
NPRM | 12/00/16

Regulatory Flexibility Analysis Required: Yes.

Agency Contact: Roy E. Crabtree, Phone: 727 824-5305, Fax: 727 824-5308, Email: roy.crabtree@noaa.gov.

RIN: 0648-BD33

236. Comprehensive Fishery Management Plan for St. Thomas/St. John

Legal Authority: 16 U.S.C. 1801 et seq.

Abstract: This comprehensive St. Thomas/St. John Fishery Management Plan will incorporate, and modify as needed, federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for each of St. Croix and Puerto Rico, will replace the Spiny Lobster, Reef Fish, Coral and Queen Conch Fishery Management Plans presently governing the commercial and recreational harvest in U.S. Caribbean exclusive economic zone waters.

Timetable:

Action | Date | FR Cite
NPRM | 12/00/16

Regulatory Flexibility Analysis Required: Yes.

Agency Contact: Roy E. Crabtree, Phone: 727 824-5305, Fax: 727 824-5308, Email: roy.crabtree@noaa.gov.

RIN: 0648-BD34

237. Marine Mammal Protection Act Permit Regulation Revisions

Legal Authority: 16 U.S.C. 1374

Abstract: This action would consider revisions to the implementing regulations governing the issuance of permits for activities under section 104 of the Marine Mammal Protection Act. The intent of this action would be to streamline and update (using plain language) the general permitting information and the specific requirements for the four categories of permits: scientific research (including the General Authorization); enhancement; educational and commercial photography; and public display. The revisions would also simplify procedures for collection, possession, and transfer of marine mammals parts collected before the effective date of the Marine Mammal Protection Act, and also clarify reporting requirements for public display facilities holding marine mammals.

Timetable:

Action | Date | FR Cite
ANPRM | 09/13/07 | 72 FR 52339
ANPRM Comment Period Extended | 10/15/07 | 72 FR 58279
ANPRM Comment Period End | 11/13/07 | 72 FR 52339
ANPRM Comment Period End | 12/13/07 | 72 FR 58279
NPRM | 12/00/15

Regulatory Flexibility Analysis Required: Yes.

Agency Contact: Donna Wieting, Phone: 301 713-2322.

RIN: 0648-AV82

238. Endangered and Threatened Species: Designation of Critical Habitat for Threatened Lower Columbia River Coho Salmon and Puget Sound Steelhead

Legal Authority: 16 U.S.C. 1531 to 1544

Abstract: This action will designate critical habitat for lower Columbia River coho salmon and Puget Sound steelhead, currently listed as threatened species under the Endangered Species Act. The specific areas proposed for designation in for lower Columbia River coho include approximately 2,288 mi (3,681 km) of freshwater and estuarine habitat in Oregon and Washington. The specific areas proposed for designation for Puget Sound steelhead include approximately 1,880 mi (3,026 km) of freshwater and estuarine habitat in Puget Sound, Washington.

Timetable:

Action | Date | FR Cite
NPRM | 01/14/13 | 78 FR 2725
Final Action | 12/00/15

Regulatory Flexibility Analysis Required: Yes.

Agency Contact: Donna Wieting, Phone: 301 713-2322.

RIN: 0648-BB30

239. Designation of Critical Habitat for the Beringia Distinct Population Segment of the Bearded Seal

Legal Authority: 16 U.S.C. 1531 et seq.

Abstract: The National Marine Fisheries Service (NMFS) published a final rule to list the Beringia Distinct Population Segment (DPS) of the bearded seal as a threatened species under the Endangered Species Act (ESA) in December 2012. The ESA requires designation of critical habitat at the time a species is listed as threatened or endangered, or within one year of listing if critical habitat is not then determinable. This rulemaking would designate critical habitat for the Beringia DPS of the bearded seal. The proposed critical habitat designation would be in the northern Bering, Chukchi, and Beaufort seas within the current range of the species.

Timetable:

Action | Date | FR Cite
NPRM | 12/00/16

Regulatory Flexibility Analysis Required: Yes.

Agency Contact: Donna Wieting, Phone: 301 713-2322.

RIN: 0648-BC55

DEPARTMENT OF COMMERCE (DOC)

National Oceanic and Atmospheric Administration (NOAA)

Completed Actions

240. American Lobster Fishery; Fishing Effort Control Measures to Complement Interstate Lobster Management Recommendations by the Atlantic States Marine Fisheries Commission

Legal Authority: 16 U.S.C. 5101 et seq.

Abstract: The action would limit future access in the Lobster Conservation Management Area (Area) 2 and Outer Cape Area lobster trap fishery based on historic participation criteria, and implement a transferable trap program in Area 2, Area 3, and the Outer Cape Area as recommended by the Atlantic States Marine Fisheries Commission. National Marine Fisheries Service proposes to use the same historic participation data and qualification criteria used by state agencies to qualify state lobstermen fishing in the state waters of the subject management areas.

Timetable:

Action | Date | FR Cite
ANPRM | 05/10/05 | 70 FR 24495
Notice of Public Meeting | 05/03/10 | 75 FR 23245
NPRM | 06/12/13 | 78 FR 35217
Final Action | 04/07/14 | 79 FR 19015

Regulatory Flexibility Analysis Required: Yes.

Agency Contact: John K. Bullard, Northeast Regional Administrator, Department of Commerce, National Oceanic and Atmospheric Administration, 55 Great Republic Drive, Gloucester, MA 01930. Phone: 978 281-9287. Email: john.bullard@noaa.gov.

RIN: 0648-AT31

241. Magnuson-Stevens Fishery Conservation and Management Reauthorization Act (MSRA) Environmental Review Procedure

Legal Authority: 16 U.S.C. 1801 et seq.

Abstract: This rule revises and updates the National Marine Fisheries Service procedures for complying with National Environmental Protection Act in the context of fishery management actions developed pursuant to MSRA.

Timetable:

Action | Date | FR Cite
NPRM | 05/14/08 | 73 FR 27998
Withdrawal of Proposed Rule | 07/14/14 | 79 FR 40703

Regulatory Flexibility Analysis Required: Yes.

Agency Contact: Steve Leathery, Department of Commerce, National Oceanic and Atmospheric Administration, 1315 East-West Highway, Silver Spring, MD 20910, Phone: 301 713-2239, Email: steve.leathery@noaa.gov.

RIN: 0648-AV53

242. Amendment 6 to the Monkfish Fishery Management Plan

Legal Authority: 16 U.S.C. 1801 et seq.

Abstract: The purpose of Amendment 6 to the Monkfish Fishery Management Plan is to consider developing a catch share management program for this fishery. This would very likely also involve the development of a referendum for such a program as required under the Magnuson-Stevens Fishery Conservation and Management Act.

Timetable:

Action | Date | FR Cite
Final Action—Notice of Intent to Prepare an EIS | 11/30/10 | 75 FR 74005

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BA50

243. Generic Amendment to Several Fishery Management Plans in the Gulf of Mexico and South Atlantic Regions to Modify Federally-Permitted Seafood Dealer Reporting Requirements

Legal Authority: 16 U.S.C. 1801 et seq.

Abstract: To better ensure commercial landings of managed fish stocks do not exceed annual catch limits, improvements are needed to the accuracy, completeness, consistency, and timeliness of data submitted by federally-permitted seafood dealers. The purpose of the generic amendment is to change the current reporting requirements for those dealers who purchase fish managed under several of the Gulf of Mexico and South Atlantic Fishery Management Council fishery management plans. Changes are proposed to the current six dealer permits to increase the species that must be reported. Changes are also proposed to the method and frequency of dealer reporting. This action will aid in achieving the optimum yield from each fishery while reducing (1) undue socioeconomic harm to dealers and fishermen and (2) administrative burdens to fishery agencies

Timetable:

Action | Date | FR Cite
Notice | 12/19/13 | 78 FR 76807
NPRM | 01/02/14 | 79 FR 81
NPRM Comment Period End | 02/03/14 |
Final Action | 04/09/14 | 79 FR 19490

Regulatory Flexibility Analysis Required: No.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BC12

244. Georges Bank Yellowtail Flounder Emergency Action To Provide a Partial Exemption From Accountability Measures to the Atlantic Scallop Fishery

Legal Authority: 16 U.S.C. 1801 et seq.

Abstract: This action, requested by the New England Fishery Management Council, exempts the Atlantic sea scallop fishery from any accountability measure for catch of Georges Bank yellowtail flounder exceeding the revised sub-annual catch limit of 156.9 mt up to the initial sub-annual catch limit level of 307.5 mt. By exempting the scallop fleet from accountability measures at the lower revised 156.9 mt sub-ACL, but maintaining accountability at the 307.5 mt level initially set for the fishing year, there remains a need for the scallop fleet to mitigate yellowtail flounder catch but to do so within the context of the initial level established for the fishing year. This specific accountability measure is not needed to comply with Magnuson Stevens Fishery Conservation and Management Act requirements because there is an accountability measure at the fishery level that remains unchanged by this proposed action. Any overage of the fishery level ACL is repaid pound-for-pound in a subsequent fishing year.

Timetable:

Action | Date | FR Cite
NPRM | 10/01/12 | 77 FR 59883
Withdrawal of Proposed Rule | 03/24/14 | 79 FR 15932

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC33

245. Modification to the Hired Skipper Regulations for Management of the Individual Fishing Quota Program for the Fixed-Gear Commercial Fisheries for Pacific Halibut and Sablefish in Waters of Alaska

Legal Authority: 16 U.S.C. 1801 et seq.; 16 U.S.C. 773 et seq.

Abstract: This action would amend the hired master regulations of the Individual Fishing Quota Program for the fixed-gear commercial Pacific halibut and sablefish fisheries in the Bering Sea and Aleutian Islands management area and the Gulf of Alaska. The Individual Fishing Quota Program allows initial recipients of catcher vessel halibut and sablefish quota share to hire a vessel master to harvest Individual Fishing Quota derived from the quota share. When a hired master fishes an initial recipients Individual Fishing Quota, the initial recipient is exempt from being onboard the vessel. This action would remove the owner-onboard exemption to hire a master to harvest Individual Fishing Quota derived from quota share that an initial recipient received by transfer after February 12, 2010. Between February 12, 2010 and the effective date of this action, initial recipient quota share transferred into a quota share block of the same category would retain the hired master privilege. After the effective date of this action, no hired master privilege would be retained on initial recipient quota share consolidated with quota share of the same category. This action is necessary to maintain a predominantly owner-operated fishery.

Timetable:

Action | Date | FR Cite
NPRM | 04/26/13 | 78 FR 24707
Final Action | 07/28/14 | 79 FR 43679

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BC62

246. Amendment 3 to the Spiny Dogfish Fishery Management Plan

Legal Authority: 16 U.S.C. 1801 et seq.

Abstract: The action would make four modifications to the management measures in the Spiny Dogfish Fishery Management Plan. These include allowing up to 3 percent of the annual quota to be set aside for research purposes (research set-aside), updating the essential fish habitat definitions for spiny dogfish, allowing the previous year's management measures to be carried over into the subsequent year in the case of rulemaking delays, and removing the seasonal allocation of the commercial quota. The action is needed to improve the efficiency of the Spiny Dogfish Fishery Management Plan, and help reduce misalignment of regulations with the Atlantic States Marine Fisheries Commission's Interstate Fishery Management Plan for spiny dogfish.

Timetable:

Action | Date | FR Cite
Notice of Availability | 03/26/14 | 79 FR 16775
NPRM | 04/10/14 | 79 FR 19861
Final Action | 07/14/14 | 79 FR 41141

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BC77

247. Amendment 5 to the Fishery Management Plan for the Dolphin Wahoo Fishery of the Atlantic

Legal Authority: 16 U.S.C. 1801 et seq.

Abstract: Amendment 5 to the Dolphin Wahoo Fishery Management Plan includes revisions to the acceptable biological catches, annual catch limits, recreational annual catch targets, and accountability measures for dolphin and wahoo; modifications to the framework procedure; and modifications to the sector allocations and trip limits for dolphin. The revisions incorporate updates to the recreational data as per the Marine Recreational Information Program, as well as revisions to commercial and for-hire landings. The revisions are necessary to avoid triggering accountability measures for dolphin and wahoo based on recreational data under the Marine Recreational Fisheries Statistics Survey system. National Marine Fisheries Service no longer uses the Marine Recreational Fisheries Statistics Survey system, and now estimates recreational landings using the Marine Recreational Information Program. Additionally, this amendment would modify the framework procedure for dolphin and wahoo; modify sector allocations and adjust trip limits for dolphin.

Timetable:

Action | Date | FR Cite
Notice of Availability | 02/28/14 | 79 FR 11383
NPRM | 03/14/14 | 79 FR 14466
NPRM Comment Period End | 04/14/14 |
Final Action | 06/09/14 | 79 FR 32878

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD08

248. Allowing Northeast Multispecies Sector Vessels Access to Year Round Closed Areas

Legal Authority: 16 U.S.C. 1801 et seq.

Abstract: This action allows Northeast Multispecies vessels enrolled in a sector to fish in any of three year-round closed areas on Georges Bank during select times of the 2013 fishing year. This rule allows fishing access for Northeast multispecies sectors to two portions of the Southern New England Nantucket Lightship Closed Area for the remainder of the 2013 fishing year, under specified conditions. The intent of this rule is to allow sector vessels increased opportunities to harvest non-groundfish stocks such as monkfish, dogfish, and skates, while minimizing impacts to overfished groundfish stock such as Georges Bank cod and yellowtail flounder.

Timetable:

Action | Date | FR Cite
NPRM | 07/11/13 | 78 FR 41772
Interim Final Rule | 12/16/13 | 78 FR 76077
Final Action | 04/21/14 | 79 FR 22043

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD09

249. Pacific Coast Groundfish Trawl Rationalization Program; Second Program Improvement and Enhancement Rule

Legal Authority: 16 U.S.C. 1801 et seq.

Abstract: This action implements trailing actions for the Pacific coast groundfish trawl rationalization program in order to further improve and refine the program. Since implementation of the program in January 2011, the Pacific Fishery Management Council (Council) and NMFS have developed numerous trailing actions to the program. This action includes multiple components that either implement original provisions of the program, or increase flexibility or efficiency, or address minor revisions/clarifications. Implementation of Quota share transfer regulations is also included in this action. The other components of this action are intended to increase flexibility and efficiency for participants and the Agency, and to make minor clarifications to the program regulations.

Timetable:

Action | Date | FR Cite
NPRM | 07/19/13 | 78 FR 43125
Final Rule | 11/15/13 | 78 FR 68764
Correcting Amendment | 03/05/14 | 79 FR 12412

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD31

250. Modifications to the Pacific Coast Groundfish Trawl Rockfish Conservation Area Boundaries

Legal Authority: 16 U.S.C. 1801 et seq.

Abstract: This action would implement recommendations from the Pacific Fishery Management Council to liberalize trawl Rockfish Conservation Area boundaries for participants in the Pacific Coast groundfish shorebased individual fishing quota program, beginning November 1, 2013 through the end of 2014. Different trawl Rockfish Conservation Area variations have been in place since 2002-2003 and are typically adjusted through routine inseason actions to keep overfished fish species within acceptable catch limits or harvest guidelines. This rule proposes to modify the trawl Rockfish Conservation Area boundaries, in order to increase access to target species. This rule would increase fishermen's access to their target species allocations, while allowing the individual accountability inherent in the individual fishing quota program to reduce bycatch. This action would also increase the flexibility and efficiency for individual fishing quota program participants, and maintain the full catch accounting requirements of the individual fishing quota program.

Timetable:

Action | Date | FR Cite
NPRM | 09/13/13 | 78 FR 56641
Final Rule | 04/17/14 | 79 FR 21639
Correcting Amendment | 05/13/14 | 79 FR 27196

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD37

251. Framework Adjustment 8 to the Atlantic Mackerel, Squid and Butterfish Fishery Management Plan

Legal Authority: 16 U.S.C. 1801 et seq.

Abstract: Framework 8 announces several changes to facilitate the operation of the butterfish discard cap on the longfin squid fishery. The alternatives proposed in Framework 8 would allocate the butterfish discard cap among the Trimesters in the same percentages used for the trimester allocations for longfin squid In addition, Framework 8 would allow NMFS to transfer, in either direction, a certain amount of unused quota between the butterfish landing allocation and the discard cap on the longfin squid fishery. This would occur near the end of the year, in order to optimally utilize the butterfish that is available for fishing each year.

Timetable:

Action | Date | FR Cite
NPRM | 01/31/14 | 79 FR 5364
NPRM Comment Period End | 03/03/14 |
Final Action | 04/02/14 | 79 FR 18478

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD50

252. Implementation of the Inter-American Tropical Tuna Commission Resolution for the Conservation of Whale Sharks and the Collection and Analyses of Data on Fish Aggregating Devices

Legal Authority: 16 U.S.C. 951 et seq.; 16 U.S.C. 961 et seq.; 16 U.S.C. 971 et seq.

Abstract: This rule would implement the Inter-American Tropical Tuna Commissions Resolution intended to conserve whale sharks and collect information on fish aggregating devices. This action would require that by July 1, 2014, owners and operators of purse seine vessels in the eastern Pacific Ocean would be prohibited from setting a purse seine on a school of tuna associated with a live whale shark, if the shark is sighted prior to the beginning of the set. If a whale shark is encircled in the purse seine net the master of the vessel would be required to ensure that all reasonable steps are taken to ensure its safe release and report the details of the incident to the Inter-American Tropical Tuna Commission and NMFS. By January 1, 2015, owners and operators of purse seine vessels operating in the Inter-American Tropical Tuna Commission Convention area when fishing on fish aggregating devices would be required to collect and report the fish aggregating devices location and type. The data may be collected through a dedicated logbook, modifications to existing regional logsheets, or other domestic reporting procedures.

Timetable:

Action | Date | FR Cite
NPRM | 06/13/14 | 79 FR 33851
Final Action | 09/18/14 | 79 FR 56017

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD53

253. Implementation of the Inter-American Tropical Tuna Commission Resolution To Adopt Conservation and Management Measures for Pacific Bluefin Tuna in the Eastern Pacific Ocean

Legal Authority: 16 U.S.C. 951 et seq.; 16 U.S.C. 971 et seq.

Abstract: This action proposes regulations adopted by the Inter-American Tropical Tuna Commission that would place a limit on commercial harvests of Pacific bluefin tuna in the eastern Pacific Ocean in 2014. The Inter-American Tropical Tuna Commission resolution imposes an international aggregate catch limit of 5,000 metric tons for commercial fleets in the Eastern Pacific Ocean and, as in past years, the Resolution allows a minimum of 500 metric tons for nations such as the United States that have historically fished Pacific bluefin tuna in the Eastern Pacific Ocean but do not harvest large amounts. The rule is expected to have a beneficial impact on Pacific bluefin tuna and other living marine resources since it would extend catch limits currently set to expire December 31, 2013. This rule is likely to have negligible economic impacts because the U.S. fleets that catch Pacific bluefin tuna have not caught more than 500 metric tons of bluefin in more than a decade.

Timetable:

Action | Date | FR Cite
NPRM | 01/10/14 | 79 FR 1810
NPRM Comment Period End | 02/10/14 |
Final Action | 05/16/14 | 79 FR 28448

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD55

254. Framework Adjustment 8 to the Monkfish Fishery Management Plan

Legal Authority: 16 U.S.C. 1801 et seq.

Abstract: Framework Adjustment 8 would specify acceptable biological catch amounts, and annual catch limits, for the monkfish fishery during fishing years 2014-2016, based on an updated stock assessment completed in April 2013. This action would also set monkfish days-at-sea allocations and trip limits for both the Northern and Southern Fishery Management Areas to achieve recommended annual catch targets. In addition, this action would allow vessels issued a limited access monkfish Category H permit to fish throughout the Southern Fishery Management Area. Both the directed and incidental monkfish fisheries would be affected by this action. Specifically, Category H vessels would be provided with greater flexibility to fish for monkfish in a broader geographical area. Since the fishery has not fully harvested available quotas in recent years, it is not expected that potential increases or decreases in catch allowances are likely to have a substantial economic effect.

Timetable:

Action | Date | FR Cite
NPRM | 05/27/14 | 79 FR 30056
Final Action | 07/18/14 | 79 FR 41918

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD56

255. 2014 Specifications and Management Measures for the Atlantic Mackerel, Squid, and Butterfish Fisheries

Legal Authority: 16 U.S.C. 1801 et seq.

Abstract: This action establishes catch levels and associated management measures for the 2014 fishing year for species managed under the Atlantic Mackerel, Squid, and Butterfish Fishery Management Plan. The Mid-Atlantic Fishery Management Council reaffirmed the 3-year catch level recommendations for Illex squid and longfin squid (2012-2014), and for Atlantic mackerel (2013-2015), so no changes are proposed for catch levels for those species. The proposed action would: increase the butterfish ABC by 8 percent, and the butterfish landings limit by 24 percent, compared to 2013; set a 236 mt cap on river herring and shad catch in the mackerel fishery; raise the post-closure possession limit for longfin squid to 10,000 lb for vessels targeting Illex squid; and change the butterfish Phase 3 trip limit to 600 lb (from 500 lb) for longfin squid/butterfish moratorium permit holders to make it consistent with the incidental butterfish trip limit.

Timetable:

Action | Date | FR Cite
NPRM | 01/10/14 | 79 FR 1813
NPRM Comment Period End | 02/10/14 |
Final Action | 04/04/14 | 79 FR 18834

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD65

256. Modifications to Identification Markings on Fishing Gear Marker Buoys

Legal Authority: 16 U.S.C. 1801 et seq.; 16 U.S.C. 3631 et seq.; 16 U.S.C. 773 et seq.; Pub. L. 108-447

Abstract: This rule would eliminate the requirement that buoys marking the location of commercial fishing gear be marked with the vessel's name, in addition to a vessel identification number. Current regulations require buoy markings to make it possible to identify the vessel from which the gear was deployed. Experience shows that it is not necessary to mark buoys with both the vessel's name and Federal fisheries permit number. While one vessel may share the same name as another vessel, vessel identification numbers are exclusive and unique to the recipient vessel. The purpose of this action is to reduce regulatory burdens by eliminating the requirement to mark buoys with the vessel's name, and will reduce costs to vessel owners by reducing the labor and materials needed to mark buoys.

Timetable:

Action | Date | FR Cite
NPRM | 01/03/14 | 79 FR 381
NPRM Comment Period End | 02/03/14 |
Final Action | 04/03/14 | 79 FR 18655

Regulatory Flexibility Analysis Required: Yes.

Agency Contact: James Balsiger, Administrator, Alaska Region, Department of Commerce, National Oceanic and Atmospheric Administration, 709 West Ninth Street, Juneau, AK 99801, Phone: 907 586-7221, Fax: 907 586-7465, Email: jim.balsiger@noaa.gov.

RIN: 0648-BD66

257. Pacific Coast Whiting Fishery for 2014

Legal Authority: 16 U.S.C. 1801 et seq.

Abstract: The rule would be issued consistent with a regulatory framework that was established in 1996 to routinely implement the Washington coastal Indian tribes treaty rights to harvest Pacific Coast groundfish. The rule would establish a Pacific whiting tribal allocation for 2014. The final rule for Pacific whiting in 2014 will include the tribal allocation as well as final allocations to the non-tribal sector.

Timetable:

Action | Date | FR Cite
NPRM | 02/28/14 | 79 FR 11385
NPRM Comment Period End | 03/31/14 |
Final Action | 05/13/14 | 79 FR 27198

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD75

258. Pacific Halibut Fisheries; Catch Sharing Plan

Legal Authority: 16 U.S.C. 773 et seq.

Abstract: Each year, the Pacific Fishery Management Council (Council) reviews and receives public comment on its Pacific Halibut Catch Sharing Plan (Plan) to determine whether revisions are needed to achieve management objectives for any of the West Coast halibut fisheries. For 2014 and beyond, the Council has recommended minor changes to the portion of the Plan covering the allocations and sport fisheries. For the Washington north coast subarea sport fishery the recommended changes clarify the season structure and remove the provisions for a nearshore fishery. For the Columbia River subarea sport fishery the recommended changes revise the days of the week the fishery is open and modify the subarea allocation to provide for a new nearshore fishery within the subarea. For the Oregon central coast subarea sport fishery the changes include modifying the nearshore fishery. For the South of Humbug Mountain subarea, the recommended changes include breaking the subarea into separate subareas for Southern Oregon and California, and allocating catch to these subareas from existing allocations. These recommended changes to the Plan are implemented through the annual regulations. The annual regulations will also include the 2014 halibut quota for the West Coast fisheries as recommended by the International Pacific Halibut Commission.

Timetable:

Action | Date | FR Cite
NPRM | 02/06/14 | 79 FR 7156
NPRM Comment Period End | 02/21/14 |
Final Rule | 03/12/14 | 79 FR 13906
Final Action—Correcting Amendment | 04/04/14 | 79 FR 18827

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BD82

259. Amendment 20A to the Fishery Management Plan for the Coastal Migratory Pelagic Resources of the Gulf of Mexico and Atlantic Region

Legal Authority: 16 U.S.C. 1801 et seq.

Abstract: Amendment 20A would prohibit the sale of king and Spanish mackerel caught under the bag limit in the Gulf of Mexico and South Atlantic regions except under limited circumstances. For the Gulf of Mexico, the amendment would prohibit the sale of king and Spanish mackerel caught under the bag limit unless those fish are either caught on a for-hire trip and the vessel has both a for-hire and commercial vessel permit, or the fish are caught as part of a state-permitted tournament and the proceeds from the sale are donated to charity. For the South Atlantic region, the amendment would prohibit the sale of king and Spanish mackerel caught under the bag limit unless the fish are caught as part of a state-permitted tournament and the proceeds from the sale are donated to charity. In addition, the amendment would remove the income qualification requirement for king and Spanish mackerel commercial permits. This action would not affect the number of king mackerel permits, which are limited access, but could increase the number of Spanish mackerel permits, which are open access.

Timetable:

Action | Date | FR Cite
Notice of Availability | 03/03/14 | 79 FR 11748
NPRM | 03/19/14 | 79 FR 15284
NPRM Comment Period End | 05/05/14 |
Final Action | 06/16/14 | 79 FR 34246

Regulatory Flexibility Analysis Required: Yes.

Agency Contact: Roy E. Crabtree, Southeast Regional Administrator, Department of Commerce, National Oceanic and Atmospheric Administration, 263 13th Avenue South, St. Petersburg, FL 33701, Phone: 727 824-5305, Fax: 727 824-5308, Email: roy.crabtree@noaa.gov.

RIN: 0648-BD83

260. Framework Adjustment 51 to the Northeast Multispecies Fishery Management Plan

Legal Authority: 16 U.S.C. 1801 et seq.

Abstract: This action would implement the annual measures included in Framework Adjustment 51 to the Northeast Multispecies Fishery Management Plan (Framework 51). Framework 51 would set specifications for white hake for fishing years 2014 through 2016, as well as fishing year 2014 shared U.S./Canada quotas for Georges Bank yellowtail flounder and Eastern Georges Bank cod and haddock. The specifications for white hake are 10 percent higher than 2013, and are based on the 2013 stock assessment. The U.S. quota for Georges Bank yellowtail flounder is proposed to increase by 53 percent compared to 2013, and the Eastern Georges Bank cod and haddock quotas are proposed to increase by 60 percent, and more than 150 percent, respectively. These quotas are based on the 2013 joint U.S./Canada assessment for these stocks. The quotas for all other species were set last year in Framework 50.Framework 51 would also revise the rebuilding program for Gulf of Maine cod and American plaice. Both programs are proposed to be 10 years to ensure stocks rebuild in a timely manner, while allowing the fishery to continue. Other management measures included in Framework 51 are accountability measures for the small-mesh fishery for Georges Bank yellowtail flounder, modification to the U.S./Canada Area management measures, and consideration of a prohibition on possession of yellowtail flounder by the scallop fishery.

Timetable:

Action | Date | FR Cite
NPRM | 03/17/14 | 79 FR 14951
NPRM Comment Period End | 04/01/14 |
Final Action | 04/22/14 | 79 FR 22421

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD88

261. Framework Adjustment 2 to the Northeast Skate Complex Fishery Management Plan

Legal Authority: 16 U.S.C. 1801 et seq.

Abstract: This action includes skate fishery specifications for the 2014-2015 fishing years, and modifications to skate reporting requirements for vessels and dealers. This action would establish: an annual catch limit for the skate complex of 35,479 mt (a decrease from 50,435 mt in 2013); an overall total allowable landings of 16,385 mt (a decrease from 23,365 mt in 2013); status quo possession limits for the skate wing and bait fisheries; and changes to skate vessel and dealer reporting requirements to improve species-specific landings data, including removal of “unclassified skate” reporting options.

Timetable:

Action | Date | FR Cite
NPRM | 05/19/14 | 79 FR 29154
Final Action | 08/29/14 | 79 FR 51504

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BD99

262. • Framework Adjustment 25 to the Atlantic Sea Scallop Fishery Management Plan

Legal Authority: 16 U.S.C. 1801 et seq.

Abstract: The purpose of Framework 25 is to set management measures for the scallop fishery for the 2014 fishing year, including the annual catch limits and annual catch targets for the limited access and limited access general category fleets, as well as days-at-sea allocations and sea scallop access area trip allocations. In addition, Framework 25 will also include an adjustment to the fishing mortality limit in scallop fishery open areas (those fished under days at sea) in order to allow more harvest from open areas while not exceeding overfishing limits for the fishery; considers allowing pounds that went unharvested in Closed Area I in 2012 and 2013 to be landed in a future year; develops Southern windowpane flounder Accountability Measures; and provides Full-Time vessels the option to exchange their allocated Delmarva Access Area trip for five days-at-sea.

Timetable:

Action | Date | FR Cite
NPRM | 05/09/14 | 79 FR 26690
NPRM Comment Period End | 05/27/14 |
Final Action | 06/16/14 | 79 FR 34251

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BE07

263. • Pacific Coast Groundfish Trawl Rationalization Program; Correction to the 2014 Shorebased Trawl Allocation Table

Legal Authority: 16 U.S.C. 1801 et seq.

Abstract: This action contains one correction to the Biennial Specifications and Management Measures regulations that published in the Federal Register on January 3, 2013. This notice corrects 2014 shorebased trawl allocations for several species of groundfish in the shorebased trawl allocation table that were inadvertently misreported in the Biennial Specifications and Management Measures final rule. This will result in a very minor increase in quota pounds (the number of pounds of fish this particular sector is allowed to catch) for several species. Historically, this sector has not caught the full quota of those species, so there is not likely to be an economic impact due to this correction. The following species will be affected: English sole, Lingcod N. of 40′10° N latitude (OR & WA), Lingcod S. of 40′10° N latitude (CA), Minor Slope Rockfish North 40°10′ N. lat., Other Flatfish, Pacific cod, Shortspine Thornyhead, and Yellowtail rockfish.

Timetable:

Action | Date | FR Cite
Correcting Amendment | 05/16/14 | 79 FR 28455

Regulatory Flexibility Analysis Required: Yes.

Agency Contact: William Stelle Jr., Regional Administrator West Coast Region, Department of Commerce, National Oceanic and Atmospheric Administration, 7600 Sand Point Way Northeast, Seattle, WA 98115, Phone: 206 526-6150.

RIN: 0648-BE14

264. • 2014 Summer Flounder, Scup, and Black Sea Bass Recreational Harvest Measures

Legal Authority: 16 U.S.C. 1801 et seq.

Abstract: This rulemaking would propose management measures to achieve recreational harvest limits for the 2014 summer flounder, scup, and black sea bass recreational fisheries. Recreational management measures include recreational possession limits, minimum fish sizes, and seasonal closures.

Timetable:

Action | Date | FR Cite
NPRM | 05/09/14 | 79 FR 26685
NPRM Comment Period End | 05/27/14 |
Final Action | 07/07/14 | 79 FR 38259

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BE16

265. • 2014-2015 Spiny Dogfish Specifications

Legal Authority: 16 U.S.C. 1801 et seq.

Abstract: The proposed action includes spiny dogfish fishery specifications for the 2014-2015 fishing years, as recommended by the Mid-Atlantic and New England Fishery Management Councils. In summary, the Councils proposes Spiny dogfish annual catch limits of 60.695 million lb for 2014, and 62.413 million lb for 2015 (increases from 54.295 million lb in 2013); coastwide commercial quotas of 49.037 million lb for 2014, and 50.612 million lb for 2015 (increases from 40.842 million lb in 2013); and two alternatives for spiny dogfish trip limits: 4,000 lb (status quo) or unlimited possession for 2014 and 2015.

Timetable:

Action | Date | FR Cite
NPRM | 05/13/14 | 79 FR 27274
NPRM Comment Period End | 06/12/14 |
Final Action | 08/08/14 | 79 FR 46376

Regulatory Flexibility Analysis Required: Yes.

Agency Contact: John K. Bullard, Northeast Regional Administrator, Department of Commerce, National Oceanic and Atmospheric Administration, 55 Great Republic Drive, Gloucester, MA 01930, Phone: 978 281-9287, Email: john.bullard@noaa.gov.

RIN: 0648-BE17

266. Amending the Atlantic Large Whale Take Reduction Plan

Legal Authority: 16 U.S.C. 1361 et seq.

Abstract: The National Marine Fisheries Service (NMFS) is proposes to amend the Atlantic Large Whale Take Reduction Plan. These changes are designed to address ongoing right, humpback, and fin whale entanglements resulting in serious injury or mortality. In 2009, the Atlantic Large Whale Take Reduction Team (Team) agreed on a schedule to develop conservation measures for reducing the risk of serious injury and mortality of large whales that become entangled in vertical lines. In an August 2012 American Lobster Biological Opinion, NMFS committed to publishing a proposed rule to address vertical line entanglements in 2013, and to publish a final rule by April 2014. Unlike the broad-scale management approach taken to address entanglement risks associated with groundlines (rope between trap/pots), the approach for the vertical line rulemaking will focus on reducing the risk of vertical line entanglements in finer-scale high impact areas. Using fishing gear characterization data and whale sightings per unit effort data, NMFS developed a model to determine the co-occurrence of fishing gear density and whale density to serve as a guide in the identification of these high risk areas. Potential measures include: expanding the gear marking scheme to require larger and more frequent marks along the buoy line; increasing the number of traps per trawl based on area fished and miles fished from shore in the northeast; establishing several closures in the northeast for trap/pot fisheries; modifying weak link and breaking strength requirements of buoy lines; and requiring the use of one buoy line with one trap in the southeast.

Timetable:

Action | Date | FR Cite
NPRM | 07/16/13 | 78 FR 42653
Notice | 07/24/13 | 78 FR 44536
Final Action | 06/27/14 | 79 FR 36585

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-BC90

267. Designation of Critical Habitat for the Northwest Atlantic Ocean Loggerhead Sea Turtle DPS and the Determination Regarding Critical Habitat for the North Pacific Ocean Loggerhead DPS

Legal Authority: 16 U.S.C. 1531 et seq.

Abstract: This action would designate critical habitat for the Loggerhead sea turtle pursuant to the Endangered Species Act of 1973, as amended. The loggerhead sea turtle was originally listed worldwide as a threatened species on July 28, 1978. No critical habitat was designated for the loggerhead at that time. On September 22, 2011, NMFS and the U.S. Fish and Wildlife Service jointly published a final rule revising the loggerheads listing from a single worldwide threatened species to nine Distinct Population Segments. The two Distinct Population Segments occurring in U.S. jurisdiction are the Northwest Atlantic Ocean Distinct Population Segment (range defined as north of the equator, south of 60 N. lat., and west of 40 W. long.) and the North Pacific Ocean Distinct Population Segments (range defined as north of the equator and south of 60 N. lat.). For the 2011 final listing rule, NMFS and the U.S. Fish and Wildlife Service found designation of critical habitat to be not determinable. This action will satisfy the provisions under the Endangered Species Act requiring critical habitat to be designated for these Distinct Population Segments.

Timetable:

Action | Date | FR Cite
NPRM | 07/18/13 | 78 FR 43006
Proposed Rule Correction | 08/01/13 | 78 FR 46563
Notice | 08/21/13 | 78 FR 51705
NPRM Comment Period Reopened | 09/30/13 | 78 FR 59907
Public Hearing | 11/04/13 | 78 FR 65959
Final Action | 07/10/14 | 79 FR 39855

Regulatory Flexibility Analysis Required: Yes.

Agency Contact: Donna Wieting, Fishery Biologist, Office of Protected Resources, Department of Commerce, National Oceanic and Atmospheric Administration, National Marine Fisheries Service, 1315 East-West Highway, Silver Spring, MD 20910, Phone: 301 713-2322.

RIN: 0648-BD27

[FR Doc. 2014-28929 Filed 12-19-14; 8:45 am]

BILLING CODE 3510-12-P